DEPARTMENT OF COMMERCE

National Oceanic and Atmospheric Administration

50 CFR Part 665

RIN 0648-AY93

Fisheries in the Western Pacific; Mechanism for Specifying Annual Catch Limits and Accountability Measures

AGENCY: National Marine Fisheries Service (NMFS), National Oceanic and Atmospheric Administration (NOAA), Commerce.

ACTION: Notice of availability of fishery ecosystem plan amendments; request for comments.

SUMMARY: NMFS announces that the Western Pacific Fishery Management Council (Council) proposes to amend its five fishery ecosystem plans (FEPs) to establish a mechanism for specifying annual catch limits (ACLs) and accountability measures (AMs), adopt the ecosystem component species classification described in the NMFS advisory guidelines for National Standard 1, and identify management unit species that have statutory exceptions to the ACL and AM requirements. The intent of the amendment is end and prevent overfishing, rebuild overfished stocks, and achieve optimum yield.

DATES: Comments on the amendment must be received by May 16, 2011.

ADDRESSES: Comments on the amendment, identified by 0648-AX93, may be sent to either of the following addresses:

• Electronic Submission: Submit all electronic public comments via the Federal e-Rulemaking Portal http://www.regulations.gov; or

• Mail: Mail written comments to Michael D. Tosatto, Regional Administrator, NMFS, Pacific Islands Region (PIR), 1601 Kapiolani Blvd, Suite 1110, Honolulu, HI 96814-4700.

Instructions: Comments must be submitted to one of these two addresses to ensure that the comments are received, documented, and considered by NMFS. Comments sent to any other address or individual, or received after the end of the comment period, may not be considered. All comments received are a part of the public record and will generally be posted to http://www.regulations.gov without change. All personal identifying information (e.g., name, address, etc.) submitted voluntarily by the commenter may be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

Copies of the amendment (Amendment 2 to the American Samoa FEP, Amendment 3 to the Hawaii FEP, Amendment 2 to the Mariana Archipelago FEP, Amendment 1 to the Pacific Remote Islands Areas FEP, and Amendment 4 to the western Pacific Pelagic fisheries FEP are identical), including an environmental assessment and background information on the action, are available from http://www.regulations.gov and from the Council, 1164 Bishop St., Suite 1400, Honolulu, HI 96813, tel 808-522-8220, fax 808-522-8226, or http://www.wpcouncil.org.

FOR FURTHER INFORMATION CONTACT: Jarad Makaiau, NMFS PIR Sustainable Fisheries, 808-944-2108.

SUPPLEMENTARY INFORMATION: In 2006, the Magnuson-Stevens Fishery Conservation and Management Act was amended to include new provisions that facilitate preventing and ending overfishing, and rebuilding overfished stocks. Specifically, each council's fishery management plan must include a mechanism for specifying ACLs so that overfishing does not occur. AMs are also required to prevent ACLs from being exceeded, and to correct or mitigate any overages of the ACL. The ACL and AM mechanism would be applied to all fisheries, except species that are subject to an international fishery agreement in which the U.S. participates, or have a life cycle of approximately one year or less. The National Standard 1 guidelines, published by NMFS on January 16, 2009 (74 FR 3178), provides guidance for establishing ACLs and AMs, and exceptions to the requirements.

This amendment would establish a mechanism for specifying ACLs and AMs in each of the five western Pacific FEPs. They would include a tier of control rules which the Council's Scientific and Statistical Committee would apply to determine an acceptable biological catch limit. These control rules would account for scientific uncertainty in the estimate of a fishery's overfishing limit, and the probability of overfishing. The mechanism would also include qualitative methods for determining the probability of overfishing and for setting ACLs, and describe a suite of AMs to prevent ACLs from being exceeded or to mitigate overages of an ACL, including use of annual catch targets.

This amendment would also identify species that have statutory exceptions to the ACL and AM requirements; at present, these are all western Pacific pelagic management unit species. Finally, the amendment incorporates existing status determination criteria, as described in the five western Pacific FEPs. The Council would continue to use the SDC in determining the overfishing and overfished status of western Pacific fisheries, whereby exceeding the maximum fishing mortality threshold for a period of one year or more constitutes overfishing, and a stock is considered overfished if its biomass falls below the minimum stock size threshold. The amendment also describes the Council's intent to use the “ecosystem component” classification defined in the National Standard 1 guidelines. Specifying ecosystem component species is not part of this amendment; it would be done in future amendments to the appropriate FEP(s).

Public comments on the proposed amendment must be received by May 16, 2011 to be considered by NMFS in the decision to approve, partially approve, or disapprove the amendment. NMFS soon expects to publish and request public comment on a proposed rule that would implement the ACL mechanism.

Authority: 16 U.S.C. 1801 et seq.

Dated: March 11, 2011.
Margo Schulze-Haugen,
Acting Director, Office of Sustainable Fisheries, National Marine Fisheries Service.

[FR Doc. 2011-6151 Filed 3-15-11; 8:45 am]

BILLING CODE 3510-22-P